DEPARTMENT OF THE TREASURY

Community Development Financial Institutions Fund

Notice of Allocation Availability (NOAA) Inviting Applications for the CY 2009 Allocation Round of the New Markets Tax Credit (NMTC) Program

Announcement Type: Change to NOAA inviting applications for the CY 2009 Allocation Round of the NMTC Program: Increase in allocation authority; increase in maximum anticipated allocation award amount; waiver of Qualified Equity Investment (QEI) issuance requirements for allocation awards made in CY 2008; notification of reporting requirements for allocatees receiving allocations pursuant to the American Recovery and Reinvestment Act of 2009.

Dates: Electronic applications must be received by 5 p.m. ET on April 8, 2009. Applications sent by mail, facsimile or other form will not be accepted.

Executive Summary: This NOAA update is issued in connection with the calendar year 2009 tax credit allocation round of the NMTC Program, authorized by Title I, subtitle C, section 121 of the Community Renewal Tax Relief Act of 2000 (Pub. L. 106-554), as amended (the Act). On January 22, 2009, the Community Development Financial Institutions Fund (the Fund) announced in the NOAA for the NMTC Program (74 FR 4077) the amount of NMTC allocation authority available, the QEI issuance requirements for prior-round allocatees, and the reporting requirements for allocatees. Pursuant to the recent passage of the American Recovery and Reinvestment Act of 2009 (Recovery Act), the Fund hereby announces an increase in the total available NMTC allocation authority to $5.0 billion for the CY 2009 round. Furthermore, with respect to eligibility for an allocation under the CY 2009 round, the Fund hereby waives the QEI issuance requirements for allocation awards made in CY 2008 and increases the anticipated maximum allocation award for CY 2009 to $125 million each. Finally, the Fund is hereby providing guidance on reporting requirements for allocatees whose allocations are authorized pursuant to the Recovery Act.

Increase in Allocation Authority: The January 22, 2009 NOAA announced that there would be a total of $3.5 billion of NMTC allocation authority available in the CY 2009 round. The Recovery Act increases the NMTC allocation authority for the CY 2009 round from $3.5 billion to $5.0 billion.

Increase of Award Amount: The January 22, 2009 NOAA also announced that the Fund expects that it will provide allocation awards of not more than $100 million per applicant. Due to the additional allocation authority authorized through the Recovery Act, this notice announces that the Fund now expects that it may provide allocation awards of not more than $125 million per applicant.

Waiver of QEI Issuance Requirements for CY 2008 Allocatees: The January 22, 2009 NOAA provided information regarding QEI issuance requirements for prior-year allocatees, including CY 2008 round allocatees. This notice announces that, for the CY 2009 round of the NMTC Program, a prior allocatee in the sixth round of the NMTC Program (CY 2008) is not required to issue a minimum amount of QEIs relating to its CY 2008 NMTC Allocation in order to be eligible for an allocation under the seventh round (CY 2009).

Reporting Requirements for CY 2009 Allocatees Receiving Recovery Act Allocations: The January 22, 2009 NOAA indicated that each applicant that is selected to receive a NMTC allocation (including the applicant's Subsidiary transferees) must sign a Notice of Allocation and enter into an Allocation Agreement with the Fund. The Notice of Allocation and Allocation Agreement will set forth certain required terms and conditions of the NMTC allocation which will include, among other things, reporting requirements for all applicants receiving NMTC allocations. This notice announces that, due to the nature of the Recovery Act, it is expected that allocatees receiving NMTC allocations under the Recovery Act will be required, at a minimum, to: (i) Invest QEI proceeds in low-income communities in an expedited manner; (ii) track the use of these QEI proceeds on all investments; and (iii) provide data to the Federal government on a quarterly basis that indicates how QEI proceeds were spent and the impacts (e.g., job creation) that were realized in the low-income communities. Specific reporting requirements are still under development and will be outlined in each allocatee's Allocation Agreement. In the meantime, the Fund encourages all allocatees to review the Office of Management and Budget's (OMB's) memorandum (M-09-10; http://www.whitehouse.gov/omb/assets/memoranda_fy2009/m09-10.pdf) regarding potential reporting requirements for organizations that receive awards under the Recovery Act, as well as any subsequent guidance posted on OMB's or the Fund's Web site.

All other information and requirements set forth in the January 22, 2009 NOAA shall remain effective, as published.

For Further Information Contact: The Fund will provide programmatic and information technology support related to the allocation application between the hours of 9 a.m. and 5 p.m. ET through April 6, 2009. The Fund will not respond to phone calls or e-mails concerning the application that are received after 5 p.m. ET on April 6, 2009 until after the allocation application deadline of April 8, 2009. Applications and other information regarding the Fund and its programs may be obtained from the Fund's Web site at http://www.cdfifund.gov. The Fund will post on its Web site responses to questions of general applicability regarding the NMTC Program.

A. Information technology support: Technical support can be obtained by calling (202) 622-2455 or by e-mail at ithelpdesk@cdfi.treas.gov. People who have visual or mobility impairments that prevent them from accessing the Low-Income Community maps using the Fund's Web site should call (202) 622-2455 for assistance. These are not toll free numbers.

B. Programmatic support: If you have any questions about the programmatic requirements of this NOAA, contact the Fund's NMTC Program Manager by e-mail at cdfihelp@cdfi.treas.gov, by telephone at (202) 622-6355, by facsimile at (202) 622-7754, or by mail at CDFI Fund, 601 13th Street, NW., Suite 200 South, Washington, DC 20005. These are not toll free numbers.

C. Administrative support: If you have any questions regarding the administrative requirements of this NOAA, contact the Fund's Awards Manager by e-mail at grantsmanagement@cdfi.treas.gov, by telephone at (202) 622-8226, by facsimile at (202) 622-6453, or by mail at CDFI Fund, 601 13th Street, NW., Suite 200 South, Washington, DC 20005. These are not toll free numbers.

D. IRS support: For questions regarding the tax aspects of the NMTC Program, contact Branch Five, Office of the Associate Chief Counsel (Passthroughs and Special Industries), IRS, by telephone at (202) 622-3040, by facsimile at (202) 622-4753, or by mail at 1111 Constitution Avenue, NW., Attn: CC:PSI:5, Washington, DC 20224. These are not toll free numbers.

E. Legal counsel support: If you have any questions or matters that you believe require response by the Fund's Office of Legal Counsel, please refer to the document titled “How to Request a Legal Review,” found on the Fund's Web site at http://www.cdfifund.gov.

Authority: 26 U.S.C. 45D; 31 U.S.C. 321; 26 CFR 1.45D-1; Pub. L. No. 111-5.

Dated: March 20, 2009.
Donna Gambrell,
Director, Community Development Financial Institutions Fund.

[FR Doc. E9-6789 Filed 3-25-09; 8:45 am]

BILLING CODE 4810-70-P